DEPARTMENT OF TRANSPORTATION

Office of the Secretary

Privacy Act of 1974: System of Records

AGENCY: Office of the Secretary of Transportation, Department of Transportation (DOT).

ACTION: Notice to modify a system of records.

SUMMARY: DOT proposes to modify an existing system of records under the Privacy Act of 1974. An additional purpose for the system has been added to provide users of the system with investigation information. A routine use has been added to provide for the use and public posting of investigation results.

DATES: Effective Date: This notice will be effective, without further notice, on January 30, 2006, unless modified by a subsequent notice to incorporate comments received by the public. Comments must be received by January 20, 2006 to be assured consideration.

ADDRESSES: Send comments to Kara Spooner, Departmental Privacy Officer, United States Department of Transportation, Office of the Secretary of Transportation, 400 7th Street, SW., Room 6106, Washington, DC 20590 or Kara.Spooner@dot.gov.

FOR FURTHER INFORMATION CONTACT: Todd Zinser, Deputy Inspector General, Office of the Secretary of Transportation, 400 Seventh Street, SW., Washington, DC 20590, 202-366-6767 (voice), 202-366-3912 (fax), or Todd.J.Zinser@oig.dot.gov (e-mail).

SUPPLEMENTARY INFORMATION: The Department of Transportation system of records notice subject to the Privacy Act of 1974 (5 U.S.C. 552a), as amended, has been published in the Federal Register and is available from the above mentioned address.

System Number:

DOT/OST 101.

System Name:

Transportation Inspector General Reporting System, TIGR.

Security Classification:

Sensitive, unclassified.

System Location:

This system of record is in the Office of the Inspector General in the Office of the Secretary, 400 7th Street, SW., Washington, DC 20590.

Categories of Individuals Covered by the System of Records:

All active employees of the OIG, with history data on previous employees maintained for 2 years. Present and former DOT employees, DOT contractors and employees as well as grantees, subgrantees, contractors, subcontractors and their employees and recipients of DOT monies, and other individuals or incidents subject to investigation within the purview of the Inspector General Act.

Categories of records in the system:

Individual's current position and employment status, assignments, travel, experience, training, with the following personal data: Name, social security account number, date of birth, service computation date, career status, address, assigned station, job series, education, grade, minority status, and personnel transaction date. Investigative information consists of investigation targets' name and social security account number, organization name, type of investigation, offense data, source of referral data and action taken.

Authority for maintenance of the system:

Inspector General Act of 1978, 5 U.S.C. App.

Purposes:

The purpose of the system is to provide individuals with a need to know with specific information related to (1) Time and attendance of employees; (2) workload status reports; (3) security clearance alerts; (4) travel information; and (5) investigation information. The Inspector General publishes some investigation results publicly through a public Web site, in combination with investigation results of other agencies and organizations, in an effort to coordinate fraud enforcement and investigation efforts with other entities.

Routine uses of records maintained in the system, including categories of users and the purposes of such uses:

(1) Security clearance notification alerts may be provided to an examined activity in advance of visits by OIG personnel if information to be examined requires a secret clearance or above; (2) time and attendance reports will be used to track temporary duty travel frequency and duration, to categorize indirect time for periodic reports, and to accrue staff hour data on assigned projects; (3) planned annual leave reporting will be used by various managers for workload planning and travel scheduling; (4) assignments information and workload status information will be used by managers to control audits and investigations, and to maximize effectiveness of staff resources; (5) miscellaneous personnel information will be used by staff managers to determine training needs, promotional eligibility, education and background, and professional organization participation; (6) information will be used to produce resource management reports; (7) travel information will be used by managers to control temporary duty travel, travel costs and issuances of travel orders; and (8) investigative information is collected and maintained in the administration of the Inspector General Act of 1978 (Pub. L. 95-452) to investigate, prevent, and detect fraud and abuse in departmental programs and operations. Material gathered is used for investigative case management, and some investigation information is posted publicly in an effort to reduce fraud and other crimes across the government. See also Prefatory Statement of General Routine Uses.

Disclosure to Consumer Reporting Agencies:

None.

Policies and practices for storing, retrieving, accessing, retaining, and disposing of records in the system:

Storage:

Active reports on magnetic disk, with backup active records and inactive records maintained on magnetic tape.

Retrievability:

Records will be retrievable through employee social security number, by name, or incident title, with selected records having certain secondary keys consisting of certain other data elements, listed in the “Categories of Records in the System.”

Safeguards:

(1) Records will be maintained in a private library not accessible by any unauthorized user; (2) authorized user identification codes will be tied to multiple password system to afford additional protection; (3) any attempt to bypass the password protection system will result in “Log-Off” from the system or denial of access to data if access to system is authorized; (4) physical access to system documentation, hardcopy printouts, personal data files, and terminals will be restricted to authorized personnel by maintaining a secure environment in the headquarters office; and (5) tape files will be maintained in an environmentally secure vault area when not in use.

Retention and Disposal:

Records will be maintained for 2 years after they become inactive. All inactive records will be maintained on magnetic tape within the computer center and will be afforded the same safeguards as active records. Machine-resident records will be destroyed at the end of the 2-year period. Hard copy records will be retained until the records are replaced or become obsolete.

System manager and address:

Chief Information Officer, JM-10, Office of Inspector General, Department of Transportation, 400 7th Street, SW., Room 7117, Washington, DC 20590.

Notification procedure:

Same as “System Manager.”

Record access procedures:

Same as “System Manager.”

Contesting record procedures:

Same as “System Manager.”

Record source categories:

(1) Official personnel folder; (2) other personnel documents; (3) activity supervisors; (4) individual applications and forms; and (5) information obtained from interviews, review of records and other authorized investigative techniques.

Exemptions claimed for the system:

Investigative data compiled for law enforcement purposes may be exempt from the access provisions pursuant to 5 U.S.C. 552a(j)(2), (k)(1), or (k)(2).

Dated: November 28, 2005.
Kara Spooner,
Departmental Privacy Officer.

[FR Doc. E5-7599 Filed 12-20-05; 8:45 am]

BILLING CODE 4910-62-P